DEPARTMENT OF LABOR

Bureau of Labor Statistics

Proposed Collection, Comment Request

ACTION: Notice; correction.

SUMMARY: The Department of Labor published a document in the Federal Register of October 4, 2010, concerning a request for comments on the proposed revision of the National Compensation Survey (1220-0164). The document contained an incorrect date for submission of comments.

FOR FURTHER INFORMATION CONTACT: Nora Kincaid, BLS Clearance Officer, at 202-691-7628 (this is not a toll free number). (See ADDRESSES section.)

Correction

In the Federal Register of October 4, 2010, 75 FR 61178, in the second column, correct the DATES caption to read:

DATES: Written comments must be submitted to the office listed in the ADDRESSES section of this notice on or before December 3, 2010.

Signed at Washington, DC, this 5th day of October 2010.
Kimberley Hill,
Chief, Division of Management Systems, Bureau of Labor Statistics.

[FR Doc. 2010-25404 Filed 10-7-10; 8:45 am]

BILLING CODE 4510-24-P